DEPARTMENT OF HOUSING AND URBAN DEVELOPMENT

[Docket No. FR-5443-N-01]

Notice of Intent To Prepare a Draft Environmental Impact Statement for the Sunset Area Community, City of Renton, WA

AGENCY: Office of the Assistant Secretary for Community Planning and Development, HUD.

ACTION: Notice.

SUMMARY: The Department of Housing and Urban Development (HUD) gives notice to the public, agencies, and Indian tribes that the City of Renton, WA, intends to prepare an Environmental Impact Statement (EIS) for the redevelopment of the Sunset Terrace public housing community and associated neighborhood revitalization. Pursuant to the authority granted by section 26 of the U.S. Housing Act of 1937 (42 U.S.C. 1437x) in connection with projects assisted under section 9 of that Act (42 U.S.C. 1437g), the City of Renton has assumed responsibility for compliance with the National Environmental Policy Act (NEPA) (42 U.S.C. 4321) in accordance with 24 CFR 58.1 and 58.4, and as the lead agency for compliance with the Washington State Environmental Policy Act (SEPA, RCW 43.21C), will perform the joint environmental review. This notice is in accordance with regulations of the Council on Environmental Quality at 40 CFR parts 1500-1508. All interested Federal, State, and local agencies, Indian tribes, groups, and the public are invited to comment on the scope of the EIS. If you are an agency with jurisdiction by law over natural or other public resources affected by the project, the City of Renton needs to know what environmental information germane to your statutory responsibilities should be included in the EIS.

ADDRESSES: Comments relating to the scope of the EIS are requested and will be accepted by the contact person listed below until October 18, 2010. Any person or agency interested in receiving a notice and wishing to make comment on the Draft EIS should contact the persons listed below.

FOR FURTHER INFORMATION CONTACT: The primary contact is Erika Conkling, AICP, Senior Planner, City of Renton Department of Community and Economic Development, 1055 S. Grady Way, Renton, WA 98057, 425-430-6578 (voice) 425-430-7300 (fax), or e-mail: econkling@rentonwa.gov. An alternative contact is Mark Santos-Johnson, Senior Economic Development Specialist, City of Renton Department of Community & Economic Development, 425-430-6584 (voice), msantosjohnson@rentonwa.gov, available at the same address and fax number listed above.

Public Participation: The public will be invited to participate in the review of the Draft EIS. Release of the Draft EIS will be announced through public mailings as well as the local news media.

SUPPLEMENTARY INFORMATION:

Project Name and Description

The primary proposal is redevelopment of the Sunset Terrace public housing community, a Renton Housing Authority property of approximately 100 existing units in 50-year old, two story structures, located at the intersection of Sunset Boulevard and Harrington Avenue on approximately eight acres. The Renton Housing Authority also owns another approximately 3 acres of vacant land along Edmonds Avenue, NE., Glenwood Avenue, NE., and Sunset Lane, NE., and intends to purchase additional property adjacent to Sunset Terrace along Harrington Avenue NE. for housing and associated services. Sunset Terrace was developed in approximately 1960 though the rest of the neighborhood largely developed between the 1940s and 1970s. Conceptual plans propose redevelopment of Sunset Terrace and adjacent properties with mixed-income, mixed-use residential and commercial space and public amenities. It is expected that with the Sunset Terrace property and associated properties owned or purchased by Renton Housing Authority, that up to 200 additional new affordable housing units and potentially 300 new moderate income to market rate housing units could be created. There would be a 1-to-1 unit replacement for all 100 existing public housing units. Public amenities would be integrated with the residential development and may include the following: a community gathering space or “Third Place”; a new recreation/community center; a new library; a new park/open space; retail shopping and commercial space; and/or green infrastructure.

As a result of the Sunset Terrace redevelopment, it is expected that private redevelopment in the neighborhood will be catalyzed. Supporting both Sunset Terrace and neighborhood redevelopment will be civic investments including: planned or anticipated upgrades to Sunset Boulevard (SR 900) and other local streets, stormwater drainage systems, parks and recreation facilities, education facilities, and a new public library. The Sunset Area contains many public amenities and publicly-owned parcels creating significant opportunities for partnership and integration of civil infrastructure improvements. The City of Renton has already undertaken significant effort to prioritize strategies for public investment in the Sunset Area through the work of the recently approved Sunset Area Community Investment Strategy.

Sunset Terrace's redevelopment provides the opportunity to evaluate the neighborhood as a whole and determine what future land use redevelopment is possible and what public service and infrastructure improvements should be made in order to make this a more vibrant and attractive community for residents, businesses and property owners. The EIS will address the primary proposal of the Sunset Terrace area redevelopment as well as evaluate secondary proposals such as neighborhood redevelopment and supporting services and infrastructure improvements.

The City of Renton is also proposing to adopt a Planned Action Ordinance pursuant to SEPA. A Planned Action Ordinance, if adopted, would not require future SEPA threshold determinations or EISs when future projects are consistent with EIS assumptions and mitigation measures.

Alternatives to the Proposed Action: The alternatives to be considered by the lead agency will include the proposed action, a no action alternative, and a redevelopment alternative to the proposed action. The redevelopment alternative will be finalized after conclusion of the scoping comment period. It may address alternative land use mixes, infrastructure options, or other features.

Probable Environmental Effects

The lead agency has preliminarily identified the following areas for discussion in the EIS: aesthetics; air quality, including greenhouse gas emissions; earth; energy; environmental health; environmental justice; historic/cultural resources; housing; land use; noise; parks and recreation; plants and animals; public services, including public education, safety, health, and social services; socioeconomics, including demographic, employment, and displacement; transportation; utilities, including wastewater, stormwater, water supply, telecommunication, natural gas, power, electrical; and water resources, including groundwater and surface water.

Lead Agency

This EIS will be a joint National Environmental Policy Act (NEPA) and Washington State Environmental Policy Act (SEPA) document intended to satisfy requirements of federal and state environmental statutes. In accordance with specific statutory authority and HUD's regulations at 24 CFR part 58, the City of Renton is authorized to assume responsibility for environmental review, decision-making, and action that would otherwise to apply HUD under NEPA, which includes NEPA lead agency responsibility.

Questions may be directed to the individuals named in this notice under the heading “For Further Information Contact.”

Dated: August 23, 2010.
Mercedes Márquez,
Assistant Secretary for Community Planning and Development.

[FR Doc. 2010-23181 Filed 9-16-10; 8:45 am]

BILLING CODE 4210-67-P